DEPARTMENT OF HOMELAND SECURITY

Bureau of Customs and Border Protection

19 CFR Part 4

[CBP Dec. 08-27]

Countries Whose Pleasure Vessels May Be Issued Cruising Licenses

AGENCY: Customs and Border Protection, Department of Homeland Security.

ACTION: Final rule.

SUMMARY: This document amends the U.S. Customs and Border Protection (CBP) regulations relating to the list of foreign countries whose pleasure vessels may be issued U.S. cruising licenses. Pursuant to information provided by the British Embassy, the Department of State has recommended that CBP update the listing relating to the United Kingdom.

DATES: These amendments are effective on October 15, 2008. The changes reflected in these amendments became applicable on May 1, 2007.

FOR FURTHER INFORMATION CONTACT: Goli Gharib, Regulations and Rulings, Office of International Trade, (202) 572-8851.

SUPPLEMENTARY INFORMATION:

Background

Section 4.94(a) of the CBP regulations (19 CFR 4.94(a)), provides that U.S. documented vessels with a recreational endorsement, used exclusively for pleasure, not engaged in any trade, and not violating the customs or navigation laws of the United States, may proceed from port to port in the United States or to foreign ports without entering or clearing, as long as they have not visited hovering vessels. When returning from a foreign port or place, such pleasure vessels are required to report their arrival pursuant to § 4.2, CBP regulations (19 CFR 4.2).

Generally, foreign-flag yachts entering the United States are required to comply with the laws applicable to foreign vessels arriving at, departing from, and proceeding between ports of the United States. However, as provided in § 4.94(b), CBP regulations (19 CFR 4.94(b)), CBP may issue cruising licenses to pleasure vessels from certain countries if it is found that yachts of the United States are exempt from formal entry and clearance procedures (e.g., filing manifests, obtaining permits to proceed and paying entry and clearance fees) in those countries.

If a foreign-flag yacht is issued a cruising license, the yacht, for a stated period not to exceed one year, may arrive and depart from the United States and to cruise in specified waters of the United States without entering and clearing, without filing manifests and obtaining or delivering permits to proceed, and without the payment of entrance and clearance fees, or fees for receiving manifests and granting permits to proceed, duty on tonnage, tonnage tax, or light money. Upon arrival at each port in the United States, the master of a foreign-flag yacht with a cruising license must report the fact of arrival to the appropriate CBP office. A list of countries whose yachts are eligible for cruising licenses is set forth in § 4.94(b).

By an undated letter received on May 1, 2007, the Department of State informed the Chief, Cargo Security, Carriers and Immigration Branch, CBP, that the British Embassy has advised that the listing for Great Britain in § 4.94(b) requires updating. The Department of State recommends that the reference in § 4.94(b) for Great Britain be revised to read as follows:

United Kingdom and the Dependencies: the Anguilla Islands, the Isle of Man, the British Virgin Islands, the Cayman Islands, and the Turks and Caicos Islands.

Additionally, the Department of State recommends that Saint Vincent and the Grenadines; and Saint Kitts and Nevis (formerly the Federation of Saint Christopher and Nevis) be listed separately from the United Kingdom as they are now independent countries.

The Chief, Cargo Security, Carriers and Immigration Branch has found, based on the information provided, that the reciprocity required in § 4.94(b) has been established with respect to the above-referenced countries effective May 1, 2007. Accordingly, under the authority of 46 U.S.C. 60504, yachts from the above-referenced countries used only for pleasure may arrive at and depart from the ports of the United States and cruise in the waters of the United States without payment of any duties or fees. The list of countries in § 4.94(b) is being revised in this final rule document as discussed above. The authority to amend this section of the CBP regulations has been delegated to the Chief, Trade and Commercial Regulations Branch, Regulations and Rulings, Office of International Trade.

Inapplicability of Notice and Delayed Effective Date

Because these amendments merely implement a statutory requirement and confer a benefit upon the public, CBP has determined that notice and public procedure are unnecessary pursuant to section 553(b)(B) of the Administrative Procedure Act (APA) (5 U.S.C. 553(b)(B)). Further, for the same reasons, good cause exists for dispensing with a delayed effective date under section 553(d)(3) of the APA (5 U.S.C. 553(d)(3)).

Regulatory Flexibility Act and Executive Order 12866

Because no notice of proposed rulemaking is required, the provisions of the Regulatory Flexibility Act (5 U.S.C. 601 et seq.) do not apply. This amendment does not meet the criteria for a “significant regulatory action” as specified in Executive Order 12866.

Signing Authority

This document is being issued by CBP in accordance with § 0.1(b)(1) of the CBP regulations (19 CFR 0.1(b)(1)).

List of Subjects in 19 CFR Part 4

Customs duties and inspection, Maritime carriers, Vessels, Yachts.

Amendments to the CBP Regulations

For the reasons set forth above, part 4 of title 19 of the Code of Federal Regulations (19 CFR part 4) is amended as set forth below.

PART 4—VESSELS IN FOREIGN AND DOMESTIC TRADES

1. The general authority citation for part 4 and the specific authority for § 4.94 continue to read as follows:

Authority: 5 U.S.C. 301; 19 U.S.C. 66, 1431, 1433, 1434, 1624, 2071 note; 46 U.S.C. 501, 60105.

* * * * *

Section 4.94 also issued under 19 U.S.C. 1441; 46 U.S.C. 60504;

* * * * *

§ 4.94 [Amended]

2. In § 4.94, the list of countries in paragraph (b) is amended by removing the words “Great Britain (including Turks and Caicos Islands; St. Vincent (including the territorial waters of the Northern Grenadine Islands), the Cayman Islands, the St. Christopher-Nevis-Anguilla Islands and the British Virgin Islands)” and adding, in appropriate alphabetical order, the words “Saint Vincent and the Grenadines”, “Saint Kitts and Nevis,” and “United Kingdom and the Dependencies: the Anguilla Islands, the Isle of Man, the British Virgin Islands, the Cayman Islands, and the Turks and Caicos Islands”.

Dated: October 9, 2008.
Joanne R. Stump,
Chief, Trade and Commercial Regulations Branch, Regulations and Rulings, Office of International Trade.

[FR Doc. E8-24523 Filed 10-14-08; 8:45 am]

BILLING CODE 9111-14-P